DEPARTMENT OF THE INTERIOR

Fish and Wildlife Service

[FWS-R1-R-2009-N178; 1265-0000-10137-S3]

Rose Atoll National Wildlife Refuge, American Samoa

AGENCY: Fish and Wildlife Service, Interior.

ACTION: Notice of intent to prepare a comprehensive conservation plan and environmental assessment; announcement of public open house meetings; request for comments.

SUMMARY: We, the U.S. Fish and Wildlife Service (Service), intend to prepare a comprehensive conservation plan (CCP) for the Rose Atoll National Wildlife Refuge (Refuge). We will also prepare an environmental assessment (EA) to evaluate the potential effects of various CCP alternatives. We provide this notice in compliance with our CCP policy to advise the public and other Federal and State agencies and Tribes of our intentions, and to obtain suggestions and information on the scope of issues to consider in the planning process. We are also announcing public meetings and requesting public comments.

DATES: To ensure consideration, please send your written comments by December 9, 2009.

ADDRESSES: Send your written comments or requests for more information by any of the following methods.

E-mail: FW1PlanningComments@fws.gov (include “Rose Atoll” in the subject line of the message).

U.S. Mail: Don Palawski, Project Leader, Pacific Remote Islands National Wildlife Refuge Complex, 300 Ala Moana Blvd., Room 5-231, Honolulu, HI 96850.

FOR FURTHER INFORMATION CONTACT: Don Palawski, Project Leader, (808) 792-9560 (phone).

SUPPLEMENTARY INFORMATION:

Refuge Overview

Rose Atoll Refuge was established in 1973 after a cooperative agreement between the Government of American Samoa and the Service was signed. The Refuge is part of American Samoa and is located 78 miles east-southeast of Tau Island in the Manua Group at latitude 14°32′52″ south and 168°08′34″ west. The Refuge includes approximately 20 acres of land and 1,600 acres of lagoon surrounded by a perimeter reef. The lands, submerged lands, waters, and marine environment of the Refuge support a dynamic reef ecosystem that is home to a very diverse assemblage of terrestrial and marine species, some of which are Federally listed as threatened or endangered. One of the Refuge's most striking features is the pink hue of the perimeter reef caused by the dominance of coralline algae.

National Monument Establishment and Management Responsibilities

On January 6, 2009, President George W. Bush established the Rose Atoll Marine National Monument (MNM, or Monument) by signing Presidential Proclamation 8337 (Proclamation) under the authority of the Antiquities Act of 1906 (34 Stat. 225, 16 U.S.C. 431). The Rose Atoll Refuge is part of the Rose Atoll MNM. Rose Atoll MNM consists of approximately 13,451 square miles of emergent and submerged lands and waters, with an outer boundary that is approximately 50 nautical miles from the mean low water line of Rose Atoll, the Monument's center.

Through the Proclamation, management responsibility for the Monument was assigned to the Secretary of the Interior, in consultation with the Secretary of Commerce. The Secretary of the Interior delegated management responsibility to the Service's Director (Secretary of the Interior Order 3284, January 16, 2009). The Director will continue to manage Rose Atoll Refuge for the conservation and protection of the Refuge's unique and valuable fish and wildlife resources, consistent with protection of the Monument's resources identified in the Proclamation.

Through the Proclamation, the Secretary of Commerce's National Oceanic and Atmospheric Administration (NOAA) was assigned primary management responsibility for fishery-related activities in the Monument's marine areas located seaward of the mean low water line of Rose Atoll, pursuant to the Magnuson-Stevens Fishery Conservation and Management Act (16 U.S.C. 1801 et seq.). The Secretary of Commerce was also directed in the Proclamation to initiate the process to add the marine area of Rose Atoll MNM to the Fagatele Bay National Marine Sanctuary in accordance with the National Marine Sanctuaries Act (16 U.S.C. 1431 et seq.)

When completed, the Refuge's CCP and NOAA's Fagatele Bay National Marine Sanctuary management plan and fishery regulations will be referenced in and will form the foundation of the Monument's management plan. Agencies with jurisdiction or special expertise, including the U.S. Department of Defense, U.S. Department of State, and the Government of American Samoa, are to be treated as cooperating agencies during development of any Rose Atoll MNM management plans.

The CCP Planning Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction for conserving wildlife and habitats, CCPs identify wildlife-dependent recreational opportunities compatible with each refuge's establishing purposes and the NWRS mission, including opportunities for hunting, fishing, wildlife observation, wildlife photography, and environmental education and interpretation. We will review and update the CCP at least every 15 years in accordance with the Administration Act.

Each unit of the NWRS is established for specific purposes. We use a refuge's purposes to develop and prioritize its management goals and objectives within the NWRS mission, and to determine a refuge's compatible public uses. The CCP planning process provides opportunities for the public to participate in evaluating our management goals and objectives for conserving important wildlife habitat, and providing wildlife-dependent recreation opportunities.

Throughout our CCP planning process, we provide participation opportunities for the public and other agencies and organizations, including agencies of the American Samoa government. At this time, we encourage input in the form of issues, concerns, ideas, and suggestions for the future management of Rose Atoll Refuge.

We will conduct the environmental review of this project and develop an EA in accordance with the National Environmental Policy Act (NEPA) of 1969, as amended (42 U.S.C. 4321 et seq.); NEPA Regulations (40 CFR parts 1500-1508); other Federal laws and regulations; and our policies and procedures for compliance with those laws and regulations.

We request your input regarding issues, concerns, ideas, and suggestions important to you and the future management of the Rose Atoll Refuge. Opportunities for additional public input will be announced throughout the planning process.

Preliminary Issues, Concerns, and Opportunities

We have identified preliminary issues, concerns, and opportunities that we may address in the CCP. We have briefly summarized the issues below. During public scoping, we may identify additional issues.

• Protect and restore terrestrial habitat for Pisonia forest, sea turtle nesting, seabird nesting, and shorebirds.

• Protect and restore marine habitat for coral reefs, giant clams, marine mammals, sea turtles, seabirds, and fish.

• Analyze options for issuing permits.

• Identify potential, compatible scientific exploration and research opportunities.

• Identify potential locations and stipulations for fishing (recreational and traditional indigenous subsistence).

• Identify threats to the islands and reefs (unauthorized access, illegal fishing, marine debris, shipwrecks, and invasive species).

• Provide wildlife observation and photography and environmental education opportunities.

• Identify the Refuge's relationship with Fagatele Bay National Marine Sanctuary and opportunities for cooperative activities.

• Develop monitoring and enforcement programs.

• Protect cultural resources.

Public Meetings

We will hold public open house meetings to provide more information about the CCP process and obtain public comments. Public open house meetings will be held in the Manu'a Islands during November 2009, meeting details will be advertised locally. A public open house meeting is scheduled for November 19, 2009, from 4 p.m. to 6 p.m. at the Convention Center in Utulei, Tutuila, American Samoa.

Public Availability of Comments

Before including your address, phone number, or other personal identifying information in your comment, you should be aware that your entire comment—including your personal identifying information—may be made publicly available at any time. While you can ask us in your comments to withhold your personal identifying information from public review, we cannot guarantee that we will be able to do so.

Dated: November 2, 2009.
David J. Wesley,
Acting Regional Director, Region 1, Portland, Oregon.

[FR Doc. E9-26929 Filed 11-6-09; 8:45 am]

BILLING CODE 4310-55-P